POSTAL SERVICE

Privacy Act of 1974, System of Records

AGENCY: Postal Service.

ACTION: Notice of modification to an existing system of records.

SUMMARY: The United States Postal Service® (USPS®) is proposing to modify two of its Privacy Act systems of records: USPS 810.200, www.usps.com Ordering, Payment, and Fulfillment, and USPS 900.000, International Services. The proposed modification reflects changes regarding how customs declaration information is collected and reported by USPS.

DATES: Any interested party may submit written comments on the proposed modification. This proposal will become effective without further notice on June 6, 2005, unless comments received on or before that date result in a contrary determination.

ADDRESSES: Written comments on this proposal should be mailed or delivered to the Records Office, United States Postal Service, 475 L'Enfant Plaza, SW., Room 5846, Washington, DC 20260. Copies of all written comments will be available at the above address for public inspection and photocopying between 8 a.m. and 4 p.m., Monday through Friday.

FOR FURTHER INFORMATION CONTACT: Jane Eyre at (202) 268-2608.

SUPPLEMENTARY INFORMATION: In this notice, the USPS is modifying two systems of records entitled USPS 810.200, http://www.usps.com Ordering, Payment, and Fulfillment, and USPS 900.000, International Services, pursuant to the Privacy Act of 1974, 5 U.S.C. 552a. The changes are needed in order to ensure that all customs declaration information collected for outgoing mail is covered by the Privacy Act, and to add a routine use allowing disclosures to the U.S. Customs and Border Protection (Customs) pursuant to recent federal law. The background of programs for international mail and customs declarations, as well as reasons changes are needed to the two Privacy Act systems, are described below.

I. Background

The following describes the background of how customs declaration information has been prepared for outgoing international mail, including a description of any applicable Privacy Act requirements. USPS customers must submit customs declaration information for mail weighing 16 ounces or more, as well as all mail containing potentially dutiable items regardless of their weight. The contents and value of an item must be declared on the applicable customs form, along with the name and address of the sender and the addressee. Customers may complete a hard copy form available at a Post Office™, or complete online forms using various tools available at usps.com. Customs declaration is also automated in various customized mailing agreements with mailers, including Express Mail Manifesting and International Customized Mailing.

USPS customers use two basic approaches to preparing customs declarations. First, customers can complete hard copy declaration forms at Post Offices when they submit outgoing international mail. These forms have not been covered in the past by a Privacy Act system of records. The Post Office, which filed a copy for 30 days, retrieved the form solely by date of mailing, for instance, for the occasional purpose of assisting in researching a problem at a customer's request.

Second, online services at usps.com offer alternatives to the hard copy forms available at Post Offices. Simple forms can be printed from usps.com, which do not require the customer to create an account at usps.com. For the same reasons as above, information prepared using these simple forms have not in the past been covered by the Privacy Act. Another alternative at usps.com is a comprehensive solution called Click-N-Ship®. Click-N-Ship allows customers to prepare and print labels and postage for both domestic and international mail. When using Click-N-Ship for international packages, customers open an account on usps.com, and then may prepare mailing labels and/or customs declarations online using a personal computer, printer, and Internet connection. Customers can print the shipping labels on their printer. The shipping label includes the customs declaration in the form ready to affix to the package. Click-N-Ship information is covered by the Privacy Act, and is included in system of records USPS 810.200, www.usps.com Ordering, Payment, and Fulfillment.

As a result of the above procedures, international outgoing mail will have affixed to it a customs declaration, whether the customer uses the hard copy form obtained at the Post Office or any of the usps.com services described above. Outbound international mail bearing a customs form has been subject to review by Customs when the mail is processed at mail processing centers. International mail, including any attached customs forms, is also subject to customs examination in the destination country.

II. Rationale for Changes to USPS Privacy Act Systems of Records

Section 343(a) of the Trade Act of 2002 (Pub. L. 107-210, 116 Stat. 933, enacted on August 6, 2002) authorizes Customs to promulgate regulations “providing for the transmission to the Customs Service, through an electronic data interchange system, of information pertaining to cargo to be brought into the United States or to be sent from the United States, prior to the arrival or departure of the cargo.” These regulations were published by Customs on December 5, 2003 (68 FR 68140), but did not mandate requirements on USPS shipments. According to Public Law No. 107-210, Customs, “in consultation with the Postmaster General, shall determine whether it is appropriate to impose the same or similar requirements on shipments by the United States Postal Service.”

Pursuant to this authority, Customs has since determined how USPS can provide advance notice about information on outgoing international mail. USPS plans to automate, as computer-readable records, customs declaration information and transmit these records to Customs. Because USPS plans to create such automated records and because the records will likely be retrieved by customer name or other identifier, USPS is bringing all customs declaration records under the protection of the Privacy Act. Hard copy forms will be covered by USPS system of records 900.000, International Services. Online forms, to the extent not already covered, will be protected by USPS system of records 810.200, www.usps.com Ordering, Payment, and Fulfillment. A change to both systems of records is also needed to add a routine use allowing disclosure of the records to customs officials.

III. Description of Changes to Systems of Records

To accomplish changes needed, the USPS is modifying two applicable systems of records. USPS Privacy Act system 900.000, International Services, has been revised as follows. Customs declarations information provided by customers on paper forms is now established as a Privacy Act covered record under the system. Other associated changes relate to categories of records, routine uses, retrievability, retention, and system manager. Regarding categories of records, signature has been added as an element of customer information. A special routine use has been added to provide for the disclosure of customs declaration records to customs officials. Retrievability has been modified to add the personal identifiers and the mailpiece's barcode tracking numbers, which will be used to retrieve records. Retention has been modified to distinguish the retention of customs declaration records created by mailers under international customized mail agreements from the retention assigned to other mailer customs declaration records. The system manager designation has been changed to reflect current USPS operational responsibility for international postal shipments. The USPS will amend its hard copy forms to include an appropriate Privacy Act notice for customers.

USPS Privacy Act system 810.200, www.usps.com Ordering, Payment, and Fulfillment, has similarly been revised. Customs declaration information prepared after registering for or using an online service like Click-N-Ship was already protected by this system, and received a Privacy Act notice. Online forms not previously covered by the Privacy Act are also now covered by the system. The USPS has also amended these forms to provide an appropriate Privacy Act notice. This system of records has been modified to include a special routine use to authorize the disclosure of customs declaration information to customs officials. The system is also modified to reflect a maximum retention period of 90 days and to clarify disposal procedures.

Pursuant to 5 U.S.C. 552a(e)(11), interested persons are invited to submit written data, views, or arguments on this proposal. A report of the proposed modification has been sent to Congress and to the Office of Management and Budget for their evaluation. The USPS does not expect this amended notice to have any adverse effect on individual privacy rights. The modifications serve to properly extend Privacy Act protections to hard copy and all online forms relating to customs declarations. With regard to the routine use applying to hard copy forms and online transactions, the information was already available to Customs when the mailpiece was subject to examination at mail processing centers. The disclosures are made pursuant to federal law to provide advance notice of customs information related to outgoing mailpieces.

Privacy Act systems of records USPS 810.200, http://www.usps.com Ordering, Payment, and Fulfillment, and USPS 900.000, International Services were last published in their entirety in the Federal Register on April 29, 2005 (70 FR 22516-22560). The USPS proposes amending the systems as shown below:

USPS 810.200

SYSTEM NAME:

www.usps.com Ordering, Payment, and Fulfillment.

* * * * *

ROUTINE USES OF RECORDS IN THE SYSTEM, INCLUDING CATEGORIES OF USERS AND THE PURPOSES OF SUCH USES:

[Revise to read as follows:]

Standard routine uses 1 through 7, 10, and 11 apply. In addition:

a. Customs declaration records may be disclosed to domestic and foreign customs officials pursuant to 19 U.S.C. 2071 (note) and international agreements or regulations.

* * * * *

RETENTION AND DISPOSAL:

[Revise to read as follows:]

1. Records related to mailing online and online tracking and/or confirmation services supporting a customer order are retained for up to 30 days from completion of fulfillment of the order, unless retained longer by request of the customer. Records related to shipping services and domestic and international labels are retained up to 90 days. Delivery Confirmation and return receipt records are retained for 6 months. Signature Confirmation records are retained for 1 year. ACH records are retained for up to 2 years.

2. Other customer records are retained for 3 years after the customer relationship ends.

Records existing on paper are destroyed by burning, pulping, or shredding. Records existing on computer storage media are destroyed according to the applicable USPS media sanitization practice.

* * * * *

USPS 900.000

SYSTEM NAME:

International Services.

* * * * *

CATEGORIES OF RECORDS IN THE SYSTEM:

[Revise to read as follows:]

1. Customer information: Customer name, customer ID(s), customer signature, and contact information.

* * * * *

ROUTINE USES OF RECORDS IN THE SYSTEM, INCLUDING CATEGORIES OF USERS AND THE PURPOSES OF SUCH USES:

[Revise to read as follows:]

Standard routine uses 1 through 7, 10, and 11 apply. In addition:

a. Customs declaration records may be disclosed to domestic and foreign customs officials pursuant to 19 U.S.C. 2071 (note) and international agreements or regulations.

POLICIES AND PRACTICES FOR STORING, RETRIEVING, ACCESSING, RETAINING, AND DISPOSING OF RECORDS IN THE SYSTEM:

* * * * *

RETRIEVABILITY:

[Revise to read as follows:]

By customer name(s) or address(es) (sender or recipient), ID number(s), and barcode tracking number(s).

* * * * *

RETENTION AND DISPOSAL:

[Revise to read as follows:]

1. Customs declaration records created by mailers under international customized mail agreements are retained 5 years, and then erased according to the requirements of domestic and foreign Customs services. Other customs declaration records are retained 30 days.

2. Records not related to customs declarations are retained 3 years after the relationship ends.

Records existing on paper are destroyed by burning, pulping, or shredding. Records existing on computer storage media are destroyed according to the applicable USPS media sanitization practice.

SYSTEM MANAGER(S) AND ADDRESS:

[Revise to read as follows:]

Vice President, Network Operations Management, United States Postal Service, 475 L'Enfant Plaza SW., Washington, DC 20260.

Vice President, International Business, United States Postal Service, 1735 N. Lynn Street, Suite 6026, Arlington, VA 22209.

* * * * *

Neva Watson,
Attorney, Legislative.

[FR Doc. 05-9075 Filed 5-5-05; 8:45 am]

BILLING CODE 7710-12-P